DEPARTMENT OF AGRICULTURE

Animal and Plant Health Inspection Service

[Docket No. APHIS-2017-0103]

Import Requirements for the Importation of Fresh Fragrant Pears From China Into the United States

AGENCY: Animal and Plant Health Inspection Service, USDA.

ACTION: Notice.

SUMMARY: We are advising the public of our decision to revise the import requirements for the importation of fresh fragrant pears from China into the United States and to authorize importation from an additional area of production. Based on the findings of the pest risk analysis, which we made available to the public to review and comment through a previous notice, we have concluded that the application of one or more designated phytosanitary measures will be sufficient to mitigate the risks of introducing or disseminating plant pests or noxious weeds via the importation of fresh fragrant pears fruit from this additional production area.

DATES: The articles covered by this notice may be authorized for importation under the revised conditions after March 27, 2020.

FOR FURTHER INFORMATION CONTACT: Mr. Marc Phillips, Senior Regulatory Policy Specialist, PPQ, APHIS, 4700 River Road Unit 133, Riverdale, MD 20737-1231; (301) 851-2114.

SUPPLEMENTARY INFORMATION: Under the regulations in “Subpart L—Fruits and Vegetables” (7 CFR 319.56-1 through 319.56-12, referred to below as the regulations), the Animal and Plant Health Inspection Service (APHIS) prohibits or restricts the importation of fruits and vegetables into the United States from certain parts of the world to prevent plant pests from being introduced into and spread within the United States.

Section 319.56-4 of the regulations contains a notice-based process based on established performance standards for authorizing the importation of fruits and vegetables. Paragraph (c) of that section provides that the name and origin of all fruits and vegetables authorized importation into the United States, as well as the requirements for their importation, are listed on the internet in APHIS' Fruits and Vegetables Import Requirements database, or FAVIR (https://epermits.aphis.usda.gov/manual). It also provides that, if the Administrator of APHIS determines that any of the phytosanitary measures required for the importation of a particular fruit or vegetable are no longer necessary to reasonably mitigate the plant pest risk posed by the fruit or vegetable, APHIS will publish a notice in the Federal Register making its pest risk analysis and determination available for public comment.

In accordance with that process, we published a notice ¹ in the Federal Register on April 17, 2019 (84 FR 15994-15995, Docket No. APHIS-2017-0103) announcing the availability, for review and comment, of a pest list and risk management document (RMD) prepared relative to revising the conditions for the importation of fresh fragrant pears (Pyrus x sinkiangensis Yu) from China into the United States. The notice proposed both to revise the conditions for the importation of fragrant pears from an existing authorized area of production in China, the Korla region of Xinjiang Province, and to authorize importation of fragrant pears from another area of production, the Akesu region of Xinjiang Province.

¹ To view the notice, pest list, RMD, economic effects assessment, and the comments that we received, go to http://www.regulations.gov/#!docketDetail;D=APHIS-2017-0103.

We solicited comments on the pest list and RMD for 60 days ending on June 17, 2019. We received two comments by that date. They were both from an organization representing domestic pear producers within the United States. The comments that we received are discussed below by topic.

Comments on the Pest List

The pest list identified two pests of quarantine significance that could follow the pathway on fragrant pears from the Korla or Akesu regions of China, Eulecanium circumfluum, a soft scale, and Euzophera pyriella, the pyralid moth.

A commenter pointed out that Schizaphis piricola, an aphid, Eulecanium giganteum and Rhodococcus turanicus, both soft scales, and Janus piri and Janus piriodorus, both sawflies, were listed on the pest list as quarantine pests, but were not considered likely to follow the pathway on fragrant pears from China imported into the United States on the grounds that they attack stems, rather than fruit. The commenter stated that pears are often shipped with stems attached, and the pests should therefore have been considered to follow the pathway. The commenter also stated that the pests should have been mitigated for in the RMD by requiring that the national plant protection organization examine places of production, packinghouses, and packed fruit for them.

By “stems,” the pest list meant in a broad sense the above-ground, woody parts of the pear tree other than the trunk. There is evidence that S. piricola, E. giganteum, R. turanicus, J. piri, and J. piriodorus are all quarantine pests of branches, twigs, and cuttings of fragrant pears, but no evidence that they are associated with commercially produced fruit, with or without a portion of the stem attached.

The commenter stated that Bactrocera dorsalis, the Oriental fruit fly (OFF), is a quarantine pest that is known to exist in the Akesu and Korla regions and attacks pears. The commenter noted that OFF was not even included in the pest list and stated that it not only should have been included, but should have been considered a quarantine pest likely to follow the pathway on fragrant pears from China imported into the United States. The commenter also stated that OFF should have been mitigated for in the RMD by requiring bagging of fruit from places of production in which OFF is known to occur and fruit cutting during packinghouse procedures.

We acknowledge that OFF does exist in China and can attack several species of pears. However, we found no evidence that fragrant pears are a host of OFF.

The commenter pointed out that Stemphylium pyrinum was listed on the pest list as a quarantine pest but was not considered likely to follow the pathway on fragrant pears from China imported into the United States on the grounds that it attacks leaves, rather than fruit. The commenter stated that it can cause disease in fruit, however, and therefore should have been considered likely to follow the pathway on fragrant pears from China imported into the United States, and mitigated for in the RMD.

We found no evidence that S. pyrinum is associated with fragrant pear fruit; evidence indicated it solely attacks fragrant pear leaves. Since the commenter did not provide a citation in support of the assertion that S. pyrinum attacks fragrant pear fruit, we are not able to evaluate the commenter's claim.

The commenter stated that Stemphylium lycopersici and Stemphylium mali should have been added to the pest list as quarantine pests and should have been considered likely to follow the pathway on fragrant peas from China imported into the United States, and mitigated for in the RMD.

S. lycopersici is a synonym for S. pyrinum. As noted above, we found no evidence that S. pyrinum is associated with fragrant pear fruit. We also found no evidence that fragrant pears are a host of S. mali.

The commenter pointed out that Amphitetranychus viennensis and Eotetranychus pruni, both spider mites, were listed on the pest list as quarantine pests but were not considered likely to follow the pathway of fragrant pears from China imported into the United States on the grounds that they attack leaves, rather than fruit. The commenter stated that, while the mites feed on foliage, they can collect on fruit, particularly in calices, during the harvest season, and may therefore follow the pathway on harvested fruit. The commenter provided a photograph documenting this behavior on an apple from Washington State, as well as a citation to an article suggesting that the mites follow the pathway on fruit.²

² CABI. 2019. Amphitetranychus viennensis (hawthorn (spider) mite). Invasive Species Compendium. https://www.cabi.org/isc/datasheet/53368.

We are aware of the behavior the commenter referred to and it is documented to occur on certain harvested fruit, including apples. However, we have no evidence that the behavior is ubiquitous on all hosts, nor does the cited article suggest this is the case. We found no evidence that spider mites collect on fragrant pear fruit prior to harvest, and no primary evidence that the mites feed on fragrant pears.

The commenter pointed out that while the pest list listed Euzophera pyriella as a quarantine pest that could follow the pathway of fragrant pears from China, it also listed E. pyriella as being present in the continental United States and not under official control. The commenter stated that they could find no evidence that E. pyriella exists in the United States and asked if the pest list was in error regarding its distribution.

The pest list was in error on this matter and should have stated that E. pyriella is not known to occur in the United States.

The commenter stated that Cacopsylla chinensis, a psyllid, should have been listed in the pest list as a quarantine pest that could follow the pathway of fragrant pears from China imported into the United States.

Based on our review of the relevant literature and other sources used to compile the pest list, we found no evidence that C. chinensis attacks fragrant pear fruit.

Therefore, in accordance with § 319.56-4(c)(4)(ii) of the regulations, we are announcing our decision to revise the requirements for the importation of fragrant pears from China into the United States. The revised conditions are as follows:

• The fragrant pears must be grown in the Akesu or Korla region at a production site that is registered with the NPPO of China.

• Registered production sites must have in place a production site control program approved by APHIS and the NPPO of China.

• The NPPO of China is responsible for ensuring that registered production sites are subject to field sanitation and that growers are aware of quarantine pests and control measures to be taken for their control. Such measures must be described in detail in an operational workplan approved by the NPPO of China and APHIS.

• Only intact fruits may be harvested for export and the harvested fruit must be safeguarded against quarantine pests from the production site until the consignment is shipped.

• Fragrant pears must be packed in a packinghouse registered with the NPPO of China.

• The packinghouses must have a tracking system in place that will allow for traceback of the fruit to individual production sites.

• Registered packinghouses are prohibited from packing fragrant pears destined for other countries while packing fruit destined for the United States.

• Packinghouse procedures must be in accordance with the operational workplan.

• Each shipping box must be marked with the identity of the packinghouse and grower.

• Each consignment of fragrant pears must be accompanied by a phytosanitary certificate issued by the NPPO of China attesting to place of origin and stating that all APHIS phytosanitary requirements have been met and that the consignment was inspected and found free of quarantine pests.

• Fragrant pears may be imported as commercial consignments only.

• Fragrant pears are subject to inspection at the port of entry into the United States.

• Fragrant pears must be imported under permit.

These revised conditions will be listed in the Fruits and Vegetables Import Requirements database (available at https://epermits.aphis.usda.gov/manual). In addition to these specific measures, fresh fragrant pear fruit from China will be subject to the general requirements listed in § 319.56-3 that are applicable to the importation of all fruits and vegetables.

Paperwork Reduction Act

In accordance with the Paperwork Reduction Act of 1995 (44 U.S.C. 3501 et seq.), the reporting and recordkeeping requirements included in this notice are covered under the Office of Management and Budget (OMB) control number 0579-0049.

E-Government Act Compliance

The Animal and Plant Health Inspection Service is committed to compliance with the E-Government Act to promote the use of the internet and other information technologies, to provide increased opportunities for citizen access to Government information and services, and for other purposes. For information pertinent to E-Government Act compliance related to this notice, please contact Mr. Joseph Moxey, APHIS' Information Collection Coordinator, at (301) 851-2483.

Congressional Review Act

Pursuant to the Congressional Review Act (5 U.S.C. 801 et seq.), the Office of Information and Regulatory Affairs designated this action as not a major rule, as defined by 5 U.S.C. 804(2).

Authority: 7 U.S.C. 1633, 7701-7772, and 7781-7786; 21 U.S.C. 136 and 136a; 7 CFR 2.22, 2.80, and 371.3.

Done in Washington, DC, this 23rd day of March 2020.
Kevin Shea,
Administrator, Animal and Plant Health Inspection Service.

[FR Doc. 2020-06374 Filed 3-26-20; 8:45 am]

BILLING CODE 3410-34-P